DEPARTMENT OF ENERGY

Federal Energy Regulatory Commission

Combined Notice of Filings #1

Take notice that the Commission received the following electric rate filings:

Docket Numbers: ER12-1400-008; ER11-46-016; ER11-47-013; ER12-1540-011; ER21-136-002; ER17-1932-005; ER17-1931-005; ER17-1930-005; ER16-323-010; ER14-868-002; ER14-594-015; ER13-1896-017; ER12-2343-011; ER12-1544-011; ER12-1542-011; ER12-1541-011.

Applicants: Kentucky Power Company, Kingsport Power Company, Wheeling Power Company, AEP Energy, Inc., AEP Generation Resources Inc., Ohio Power Company, AEP Retail Energy Partners, Ohio Valley Electric Corporation, Public Service Company of Oklahoma, AEP Texas Inc., Southwestern Electric Power Company, Flat Ridge 3 Wind Energy, LLC, Indiana Michigan Power Company, Indiana Michigan Power Company, Appalachian Power Company, Ohio Power Company, Kingsport Power Company, Columbus Southern Power Company, Kentucky Power Company, Wheeling Power Company, AEP ENERGY PARTNERS, INC, Flat Ridge 2 Wind Energy LLC.

Description: Supplement to June 30, 2021 Triennial Market Power Analysis for Southwest Power Pool, Inc. Region of AEP Energy Partners, Inc., et al.

Filed Date: 1/7/22.

Accession Number: 20220107-5125.

Comment Date: 5 p.m. ET 1/28/22.

Docket Numbers: ER20-1742-003.

Applicants: San Diego Gas & Electric Company.

Description: Compliance filing: Order No. 864 Compliance Filing to be effective 1/27/2020.

Filed Date: 1/10/22.

Accession Number: 20220110-5126.

Comment Date: 5 p.m. ET 1/31/22.

Docket Numbers: ER22-452-001.

Applicants: Wheeling Power Company.

Description: Tariff Amendment: Amend Filing: New Mitchell Plant Agreements: Ownership; O&M to be effective 3/18/2022.

Filed Date: 1/10/22.

Accession Number: 20220110-5140.

Comment Date: 5 p.m. ET 1/31/22.

Docket Numbers: ER22-453-001.

Applicants: Kentucky Power Company.

Description: Tariff Amendment: Amend Concurrence Filing: New Mitchell Plant Agreements: Ownership; O&M to be effective 1/19/2022.

Filed Date: 1/10/22.

Accession Number: 20220110-5159.

Comment Date: 5 p.m. ET 1/31/22.

Docket Numbers: ER22-793-000.

Applicants: Arlington Solar, LLC.

Description: Baseline eTariff Filing: Arlington Solar, LLC SFA with Arlington Solar II and Arlington Solar III to be effective 1/11/2022.

Filed Date: 1/10/22.

Accession Number: 20220110-5077.

Comment Date: 5 p.m. ET 1/31/22.

Docket Numbers: ER22-794-000.

Applicants: PJM Interconnection, L.L.C.

Description: § 205(d) Rate Filing: First Revised ISA No. 5859; Queue No. AD1-081 to be effective 12/10/2021.

Filed Date: 1/10/22.

Accession Number: 20220110-5080.

Comment Date: 5 p.m. ET 1/31/22.

Docket Numbers: ER22-795-000.

Applicants: New York Independent System Operator, Inc., Niagara Mohawk Power Corporation.

Description: § 205(d) Rate Filing: New York Independent System Operator, Inc. submits tariff filing per 35.13(a)(2)(iii: Joint 205: SGIA among NYISO, NMPC, Bakerstand Amended Restated SA2572 to be effective 12/29/2021.

Filed Date: 1/10/22.

Accession Number: 20220110-5086.

Comment Date: 5 p.m. ET 1/31/22.

Docket Numbers: ER22-796-000.

Applicants: Nevada Power Company.

Description: § 205(d) Rate Filing: Rate Schedule No. 30 2nd Amended TFA PacifiCorp to be effective 3/12/2022.

Filed Date: 1/10/22.

Accession Number: 20220110-5088.

Comment Date: 5 p.m. ET 1/31/22.

Docket Numbers: ER22-797-000.

Applicants: PJM Interconnection, L.L.C.

Description: § 205(d) Rate Filing: Auction Revenue Rights and Financial Transmission Rights Tariff and OA Revisions to be effective 3/11/2022.

Filed Date: 1/10/22.

Accession Number: 20220110-5111.

Comment Date: 5 p.m. ET 1/31/22.

Docket Numbers: ER22-798-000.

Applicants: PacifiCorp.

Description: § 205(d) Rate Filing: Calpine NITSA Rev 15 to be effective 1/1/2022.

Filed Date: 1/10/22.

Accession Number: 20220110-5139.

Comment Date: 5 p.m. ET 1/31/22.

Docket Numbers: ER22-799-000.

Applicants: Lancaster Area Battery Storage, LLC.

Description: Baseline eTariff Filing: Lancaster Area Battery Storage, LLC MBR Tariff to be effective 1/11/2022.

Filed Date: 1/10/22.

Accession Number: 20220110-5157.

Comment Date: 5 p.m. ET 1/31/22.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 10, 2022.
Debbie-Anne A. Reese,
Deputy Secretary.

[FR Doc. 2022-00680 Filed 1-13-22; 8:45 am]

BILLING CODE 6717-01-P